ENVIRONMENTAL PROTECTION AGENCY

40 CFR Part 799

[EPA-HQ-OPPT-2005-0033; FRL-9350-2]

RIN 2070-AD16

Withdrawal of Revocation of TSCA Section 4 Testing Requirements for One High Production Volume Chemical Substance

AGENCY: Environmental Protection Agency (EPA).

ACTION: Final rule.

SUMMARY: In the Federal Register issue of March 16, 2012, EPA published a direct final rule revoking certain testing requirements promulgated under the Toxic Substances Control Act (TSCA) for 10 chemical substances, including benzenesulfonic acid, [[4-[[4-(phenylamino)phenyl][4-(phenylimino)-2,5-cyclohexadien-1-ylidene]methyl]phenyl]amino]- (CAS No. 1324-76-1), also known as C.I. Pigment Blue 61. EPA received an adverse comment regarding C.I. Pigment Blue 61. This document withdraws the revocation of testing requirements for C.I. Pigment Blue 61 as described in the March 16, 2012 direct final rule. In withdrawing the revocation, this document also restores the original testing requirements as currently shown in the Code of Federal Regulations (CFR). Elsewhere in today's Federal Register, EPA is publishing a proposed rule revoking the same testing requirements for C.I. Pigment Blue 61 that were published in the March 16, 2012 direct final rule.

DATES: This final rule is effective May 15, 2012.

FOR FURTHER INFORMATION CONTACT: For technical information contact: Catherine Roman, Chemical Control Division (7405M), Office of Pollution Prevention and Toxics, Environmental Protection Agency, 1200 Pennsylvania Ave. NW., Washington, DC 20460-0001; telephone number: (202) 564-8157; email address: roman.catherine@epa.gov.

For general information contact: The TSCA-Hotline, ABVI-Goodwill, 422 South Clinton Ave., Rochester, NY 14620; telephone number: (202) 554-1404; email address: TSCA-Hotline@epa.gov.

SUPPLEMENTARY INFORMATION:

I. Does this action apply to me?

A list of potentially affected entities is provided in the Federal Register issue of March 16, 2012 (77 FR 15609) (FRL-9335-6). If you have questions regarding the applicability of this action to a particular entity, consult the technical person listed under FOR FURTHER INFORMATION CONTACT.

II. What rule is being withdrawn?

In the March 16, 2012 Federal Register, EPA issued a revocation of some or all of the TSCA section 4 testing requirements for 10 chemical substances by direct final rule. In accordance with the procedures described in the March 16, 2012 Federal Register document, EPA is withdrawing the revocation of certain testing requirements for C.I. Pigment Blue 61 and also restoring the original testing requirements found in the CFR, because the Agency received an adverse comment concerning this chemical substance. The final rule revoking testing requirements for the other 9 chemical substances described in the March 16, 2012 Federal Register document is otherwise unaffected by the withdrawal of the revocation for C.I. Pigment Blue 61. Elsewhere in today's Federal Register, EPA is proposing a rule to revoke certain test rule requirements for C.I. Pigment Blue 61.

The docket identification (ID) number for the test rule concerning this chemical substance was established at EPA-HQ-OPPT-2005-0033. That docket includes information considered by the Agency in developing those rules and the adverse comment.

III. How do I access the docket?

To access the docket, please go to http://www.regulations.gov and follow the online instructions using the docket ID number EPA-HQ-OPPT-2005-0033. Additional information about the Docket Facility is also provided under ADDRESSES in the March 16, 2012 Federal Register document. If you have questions, consult the technical person listed under FOR FURTHER INFORMATION CONTACT.

List of Subjects in 40 CFR Part 799

Environmental protection, Chemicals, Hazardous substances, Reporting and recordkeeping requirements.

Dated: May 8, 2012.
James J. Jones,
Acting Assistant Administrator, Office of Chemical Safety and Pollution Prevention.

Therefore, 40 CFR chapter I is amended as follows:

PART 799—[AMENDED]

1. The authority citation for part 799 continues to read as follows:

Authority: 15 U.S.C. 2603, 2611, 2625.

2. In § 799.5085, revise the entry “CAS No. 1324-76-1” in Table 2 of paragraph (j) to read as follows:

§ 799.5085 Chemical testing requirements for first group of high production volume chemicals (HPV1).

* * * * *

(j) * * *

Table 2—Chemical Substances and Testing Requirements
CAS No. | Chemical name | Class | Required tests (see table 3 of this section)
* * * * * * *
1324-76-1 | Benzenesulfonic acid, [[4-[[4-(phenylamino)phenyl][4-(phenylimino)-2,5-cyclohexadien-1-ylidene]methyl]phenyl]amino]- | 2 | A, B, C1, D, E1, E2, F1.
* * * * * * *

* * * * *

[FR Doc. 2012-11493 Filed 5-11-12; 8:45 am]

BILLING CODE 6560-50-P